NUCLEAR REGULATORY COMMISSION

[Docket Nos. 50-289, 72-77, 50-245, 50-336, 50-423, 72-47, 50-324, 50-325, 72-06, 50-334, 50-412, 72-1043, 50-397, 72-35, 50-382, 72-75, 50-335, 50-389, 72-61, 50-331, 72-32, 50-387, 50-388, 72-28, 50-346, 72-14, 50-440 and 72-69; NRC-2024-0084]

Issuance of Multiple Exemptions Regarding Security Notifications, Reports, and Recording Keeping

AGENCY: Nuclear Regulatory Commission.

ACTION: Exemptions; issuance.

SUMMARY: The U.S. Nuclear Regulatory Commission (NRC) is issuing a single notice to announce the issuance of 11 exemptions in response to requests from ten licensees. These exemptions were requested as a result of a change to NRC's regulations published in the Federal Register on March 14, 2023.

DATES: During the period from March 1, 2024, to March 31, 2024, the NRC granted 11 exemptions in response to requests submitted by ten licensees from November 6, 2023, to January 15, 2024.

ADDRESSES: Please refer to Docket ID NRC-2024-0084 when contacting the NRC about the availability of information regarding this document. You may obtain publicly available information related to this document using any of the following methods:

• Federal Rulemaking Website: Go to https://www.regulations.gov and search for Docket ID NRC-2024-0084. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Ed Miller, Office of Nuclear Reactor Regulation, U.S. Nuclear Regulatory Commission, Washington, DC 20555-0001; telephone: 301-415-2481, email: Ed.Miller@nc.gov.

SUPPLEMENTARY INFORMATION:

I. Introduction

During the period from March 1, 2024, to March 31, 2024, the NRC granted 11 exemptions in response to requests submitted by the following licensees: Constellation Energy Generation, LLC; Dominion Energy Nuclear Connecticut, Inc.; Duke Energy; Energy Harbor Nuclear Corp.; Energy Northwest; Entergy Operations Inc.; Florida Power and Light; Nextera Energy Duane Arnold, LLC.; Susquehanna Nuclear, LLC; and Vistra Operations Company LLC.

These exemptions temporarily allow the licensee to deviate from certain requirements of part 73 of title 10 of the Code of Federal Regulations (10 CFR), “Physical Protection of Plants and Materials,” subpart T, “Security Notifications, Reports, and Recordkeeping.” In support of its exemption requests, the licensees agreed to effect site-specific administrative controls that maintain the approach to complying with 10 CFR part 73 in effect prior to the NRC's issuance of a final rule, “Enhanced Weapons, Firearms Background Checks, and Security Event Notifications,” which was published in the Federal Register on March 14, 2023, and became effective on April 13, 2023 (88 FR 15864).

II. Availability of Documents

The tables in this notice provide transparency regarding the number and type of exemptions the NRC has issued and provide the facility name, docket number, document description, document date, and ADAMS accession number for each exemption issued. Additional details on each exemption issued, including the exemption request submitted by the respective licensee and the NRC's decision, are provided in each exemption approval listed in the following tables. For additional directions on accessing information in ADAMS, see the ADDRESSES section of this document.

Document description | ADAMS accession No. | Document date
Constellation Energy Generation, LLC.; Three Mile Island Nuclear Station, Unit 1; Docket Nos. 50-289 and 72-77
Three Mile Island Nuclear Station, Unit 1—Request for Exemption from Enhanced Weapons, Firearms Background Checks, and Security Event Notifications Implementation | ML23326A010 | November 22, 2023.
Three Mile Island Nuclear Station, Unit 1—Exemption from Select Requirements of 10 CFR part 73 (EPID L-2023-LLE-0061 [Security Notifications, Reports, and Recordkeeping and Suspicious Activity Reporting]) | ML24052A060 | March 20, 2024.
Dominion Energy Nuclear Connecticut, Inc.; Millstone Power Station, Unit Nos. 1, 2, and 3; Docket Nos. 50-245, 50-336, 50-423, and 72-47
Millstone, Unit [Nos.] 1, 2, and 3—Request for Exemption from Enhanced Weapons Firearms Background Checks, and Security Event Notifications Implementation | ML23334A224 | November 30, 2023.
Millstone Power Station, Unit Nos. 1, 2, and 3—Exemption from Select Requirements of 10 CFR part 73 [Security Notifications, Reports, and Recordkeeping and Suspicious Activity Reporting] (EPID L-2023-LLE-0072) | ML24051A192 | March 8, 2024.
Duke Energy; Brunswick Steam Electric Plant, Unit Nos. 1 and 2; Docket Nos. 50-324, 50-325, and 72-06
[Brunswick Steam Electric Plant, Unit Nos. 1 and 2]—RA-23-0284 Request for Exemption from Enhanced Weapons, Firearms Background Checks, and Security Event Notifications Implementation | ML23320A283 | November 16, 2023.
[Brunswick Steam Electric Plant, Unit Nos. 1 and 2]—Supplement to Request for Exemption from Enhanced Weapons, Firearms Background Checks, and Security Event Notifications Implementation | ML23338A344 | December 4, 2023.
Brunswick Steam Electric Plant, Unit Nos. 1 and 2—Exemption from Select Requirements of 10 CFR part 73 (EPID L-2023-LLE-0057 [Security Notifications, Reports, and Recordkeeping and Suspicious Activity Reporting]) | ML24026A098 | March 1, 2024.
Energy Harbor Nuclear Corp.; Beaver Valley Power Station, Unit Nos. 1 and 2; Docket Nos. 50-334, 50-412 and 72-1043
Beaver Valley Power Station, Unit Nos. 1 and 2 and Independent Spent Fuel Storage Installation—Request for Exemption from Enhanced Weapons, Firearms Background Checks, and Security Event Notifications Implementation | ML23341A126 | December 7, 2023.
Beaver Valley Power Station, Unit Nos. 1 and 2—Exemption from Select Requirements of 10 CFR part 73 (EPID L-2023-LLE-0083 [Security Notifications, Reports, and Recordkeeping and Suspicious Activity Reporting]) | ML24044A066 | March 4, 2024.
Energy Northwest; Columbia Generating Station; Docket Nos. 50-397 and 72-35
Columbia Generating Station—Request for Exemption from Enhanced Weapons, Firearms Background Checks, and Security Event Notifications Implementation | ML23331A953 | November 27, 2023.
Columbia Generating Station, Independent Spent Fuel Storage Installation—Supplement to Request for Exemption from Enhanced Weapons, Firearms Background Checks, and Security Event Notifications Implementation | ML24015A003 | January 15, 2024.
Columbia Generating Station—Exemption From Select Requirements of 10 CFR part 73 (EPID L-2023-LLE-0064 [Security Notifications, Reports, and Recordkeeping and Suspicious Activity Reporting]) | ML24044A049 | March 12, 2024.
Entergy Operations Inc; Waterford Steam Electric Station, Unit 3; Docket Nos. 50-382 and 72-75
[Waterford Steam Electric Station, Unit 3]—Request for Exemption from Enhanced Weapons, Firearms Background Checks, and Security Event Notifications Implementation | ML23325A144 | November 21, 2023.
[Waterford Steam Electric Station Unit 3]—Supplement to Request for Exemption from Enhanced Weapons, Firearms Background Checks, and Security Event Notifications Implementation | ML23333A136 | November 29, 2023.
Waterford Steam Electric Station Unit 3—Exemption from Select Requirements of 10 CFR part 73 (EPID L-2023-LLE-0053 [Security Notifications, Reports, and Recordkeeping and Suspicious Activity Reporting]) | ML24032A003 | March 6, 2024.
Florida Power and Light; St. Lucie Plant, Unit Nos. 1 and 2; Docket Nos. 50-335, 50-389, and 72-61
St. Lucie [Plant, Unit Nos. 1 and 2]—Part 73 Exemption Request Regarding Enhanced Weapons, Firearms Background Checks, and Security Event Notifications Final Rule | ML23320A266 | November 16, 2023.
St. Lucie [Plant, Unit Nos.] 1 and 2—Supplement to Exemption Request Regarding Enhanced Weapons, Firearms Background Checks, and Security Event Notifications Final Rule | ML23334A075 | November 29, 2023.
St. Lucie Plant, Unit Nos. 1 and 2—Exemption from Select Requirements of 10 CFR part 73 (Security Notifications, Reports, and Recordkeeping and Suspicious Activity Reporting) (EPID L-2023-LLE-0062) | ML24058A157 | March 19, 2024.
Nextera Energy Duane Arnold, LLC.; Duane Arnold Energy Center; Docket Nos. 50-331 and 72-32
Duane Arnold Energy Center—Part 73 Exemption Request Regarding Enhanced Weapons, Firearms Background Checks, and Security Event Notifications Final Rule | ML23320A263 | November 16, 2023.
Duane Arnold Energy Center—Supplement to Duane Arnold Exemption Request Regarding Enhanced Weapons, Firearms Background Checks, and Security Event Notifications Final Rule | ML23340A144 | December 6, 2023.
Nextera Energy Duane Arnold, LLC.—Exemption From Select Requirements of 10 CFR part 73 (EPID L-2023-LLE-0065 [Security Notifications, Reports, and Recordkeeping and Suspicious Activity Reporting]) | ML24072A029 | March 29, 2024.
Susquehanna Nuclear, LLC; Susquehanna Steam Electric Station, Units 1 and 2; Docket Nos. 50-387, 50-388, and 72-28
Susquehanna Steam Electric Station, [Units 1 and 2]—Request for Exemption from Enhanced Weapons, Firearms Background Checks and Security Event Notifications Implementation (PLA-8088) | ML23339A170 | December 5, 2023.
Susquehanna Steam Electric Station, Units 1 and 2 and Associated Independent Spent Fuel Storage Installation—Exemption from Select Requirements of 10 CFR part 73 (EPID L-2023-LLE-0077 [Security Notifications, Reports, and Recordkeeping and Suspicious Activity Reporting]) | ML24044A253 | March 14, 2024.
Vistra Operations Company, LLC; Davis-Besse Nuclear Power Station, Unit No. 1; Docket Nos. 50-346 and 72-14
Davis-Besse Nuclear Power Station, Unit [No.] 1 and Independent Spent Fuel Storage Installation—Request for Exemption from Enhanced Weapons, Firearms Background Checks, and Security Event Notifications Implementation | ML23340A108 | December 6, 2023.
Davis-Besse Nuclear Power Station, Unit No. 1—Exemption from Select Requirements of 10 CFR part 73 (EPID L-2023-LLE-0076 [Security Notifications, Reports, and Recordkeeping and Suspicious Activity Reporting]) | ML24036A347 | March 7, 2024.
Vistra Operations Company, LLC; Perry Nuclear Power Plant, Unit No. 1; Docket Nos. 50-440 and 72-69
Perry Nuclear Power Plant, Unit No. 1—Request for Exemption from Enhanced Weapons, Firearms Background Checks, and Security Event Notifications Implementation | ML23340A086 | December 6, 2023.
Perry Nuclear Power Plant, Unit No. 1—Exemption from Select Requirements of 10 CFR part 73 (EPID L-2023-LLE-0080 [Security Notifications, Reports, and Recordkeeping and Suspicious Activity Reporting]) | ML24059A392 | March 7, 2024.

Dated: April 25, 2024.
For the Nuclear Regulatory Commission.
Jeffrey A. Whited,
Chief, Plant Licensing Branch 3, Division of Operating Reactor Licensing, Office of Nuclear Reactor Regulation.

[FR Doc. 2024-09250 Filed 4-29-24; 8:45 am]

BILLING CODE 7590-01-P